DEPARTMENT OF TRANSPORTATION

Federal Aviation Administration

Notice of Intent To Rule on Request To Release Airport Property at the San Marcos Regional Airport, San Marcos, Texas

AGENCY: Federal Aviation Administration (FAA), DOT.

ACTION: Notice of request to release airport property.

SUMMARY: The FAA proposes to rule and invite public comment on the release of land at the San Marcos Regional Airport under the provisions of Section 125 of the Wendell H. Ford Aviation Investment Reform Act for the 21st Century (AIR 21).

DATES: Comments must be received on or before November 6, 2019.

ADDRESSES: Comments on this application may be mailed or delivered to the FAA at the following address: Mr. Ben Guttery, Manager, Federal Aviation Administration, Southwest Region, Airports Division, Texas Airports District Office, ASW-650, 10101 Hillwood Parkway, Fort Worth, Texas 76177.

In addition, one copy of any comments submitted to the FAA must be mailed or delivered to Mr. Steve Parker, Assistant City Manager, at the following address: 630 E. Hopkins, San Marcos, Texas 78666.

FOR FURTHER INFORMATION CONTACT: Mr. Todd Hebert, Program Manager, Federal Aviation Administration, Texas Airports District Office, ASW-650, 10101 Hillwood Parkway, Fort Worth, TX 76177, Telephone: (817) 222-5614, email: todd.hebert@faa.gov.

The request to release property may be reviewed in person at this same location.

SUPPLEMENTARY INFORMATION: The FAA invites public comment on the request to release property at the San Marcos Regional Airport under the provisions of the AIR 21.

The following is a brief overview of the request:

City of San Marcos requests the release of 19.16 acres of non-aeronautical airport property. The property is located on the west side of the airport, along the future development of FM 110. The property to be released will used as roadway ROW for the construction of FM 110. FM 110 will provide improved access to the airport from IH 35 and will include a new entrance to the airport. The value of the improvements will offset the appraised value of the land. Any person may inspect the request in person at the FAA office listed above under FOR FURTHER INFORMATION CONTACT.

In addition, any person may, upon request, inspect the application, notice and other documents relevant to the application in person at the San Marcos Regional Airport, telephone number (512) 216-6042.

Issued in Fort Worth, Texas on September 13, 2019.
Ignacio Flores,
Director, Airports Division.

[FR Doc. 2019-21779 Filed 10-4-19; 8:45 am]

BILLING CODE P